DEPARTMENT OF TRANSPORTATION

Federal Aviation Administration

14 CFR Part 39

[Docket No. FAA-2016-9108; Directorate Identifier 2016-NM-133-AD; Amendment 39-18655; AD 2016-19-06]

RIN 2120-AA64

Airworthiness Directives; Airbus Airplanes

AGENCY: Federal Aviation Administration (FAA), DOT.

ACTION: Final rule; request for comments.

SUMMARY: We are adopting a new airworthiness directive (AD) for certain Airbus Model A330-200, Model A330-300, Model A340-200, and Model A340-300 series airplanes. This AD requires an inspection to determine the part number and serial number of certain escape slides on the left and right sides of the airplane, and replacement if necessary. This AD was prompted by a report indicating that the aspirator on certain escape slides might have been damaged because of incorrect packing during overhaul. We are issuing this AD to detect and correct damaged aspirators on escape slides. Failure of an aspirator to inflate an escape slide could prevent deployment of the escape slide during an emergency, possibly resulting in reduced evacuation capacity from the airplane and consequent injury to occupants.

DATES: This AD becomes effective October 3, 2016.

The Director of the Federal Register approved the incorporation by reference of a certain publication listed in this AD as of October 3, 2016.

We must receive comments on this AD by October 31, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this final rule, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2016-9108.

Examining the AD Docket

You may examine the AD docket on the Internet at http://www.regulations.gov by searching for and locating Docket No. FAA-2016-9108; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

The European Aviation Safety Agency (EASA), which is the Technical Agent for the Member States of the European Union, has issued EASA Airworthiness Directive 2016-0137R1, dated July 21, 2016 (referred to after this as the Mandatory Continuing Airworthiness Information, or “the MCAI”), to correct an unsafe condition for certain Airbus Model A330-200 Freighter, Model A330-200, Model A330-300, Model A340-200, and Model A340-300 series airplanes. The MCAI states:

It has been reported that some door 3, Type 1, escape slides Part Number (P/N) 7A1509-series may have sustained damage to the slide aspirator, due to an incorrect packing during last overhaul. This damage affects the air inlet end of the slide aspirator by either permanently deforming the inlet, or leading to cracks in the supply line to the aspirator nozzle.

This condition, if not detected and corrected, could lead to failure of the slide aspirator to perform its intended function to inflate the evacuation slide, preventing slide deployment during an emergency, possibly resulting in reduced evacuation capacity from the aeroplane and consequent injury to occupants.

Prompted by these findings, Airbus issued Alert Operators Transmission (AOT) A25L009-16 to provide instructions to identify and replace the affected slides.

Consequently, EASA issued AD 2016-0137, requiring identification of the door 3, Type 1, slide installed on the aeroplane, and, depending on findings, the replacement of the slide with a serviceable part.

Since that [EASA] AD was issued, it was identified that affected slides cannot be installed on aeroplanes embodying optional Airbus mod 40161.

For the reason described above, this [EASA] AD is revised to reduce the Applicability, by excluding aeroplanes that have embodied Airbus mod 40161 in production.

You may examine the MCAI on the Internet at http://www.regulations.gov by searching for and locating Docket No. FAA-2016-9108.

Related Service Information Under 1 CFR Part 51

Airbus has issued Alert Operators Transmission A25L009-16, dated July 7, 2016. The service information describes procedures for the identifying the part number and serial number of door 3, Type 1, escape slides and replacing the escape slides. This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because failure of an aspirator to inflate a door 3, Type 1, escape slide could prevent deployment of the escape slide during an emergency, possibly resulting in reduced evacuation capacity from the airplane and consequent injury to occupants. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2016-9108; Directorate Identifier 2016-NM-133-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 104 airplanes of U.S. registry.

We estimate the following costs to comply with this AD:

Estimated costs
Action | Labor cost | Parts cost | Cost per product | Cost on U.S. operators
Inspection | 1 work-hour × $85 per hour = $85 | $0 | $85 | $8,840

We estimate the following costs to do any necessary replacement that will be required based on the results of the inspection. We have no way of determining the number of airplanes that might need this replacement:

On-Condition Costs
Action | Labor cost | Parts cost | Cost per product
Replacement | 2 work-hours × $85 per hour = $170 | $45,000 | $45,170

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-19-06 Airbus: Amendment 39-18655; Docket No. FAA-2016-9108; Directorate Identifier 2016-NM-133-AD.

(a) Effective Date

This AD becomes effective October 3, 2016.

(b) Affected ADs

None.

(c) Applicability

This AD applies to the Airbus airplanes, certificated in any category, identified in paragraphs (c)(1) through (c)(4) of this AD, all manufacturer serial numbers, except those that have embodied Airbus Modification 40161 in production.

(1) Airbus Model A330-201, -202, -203, -223, and -243 airplanes.

(2) Airbus Model A330-301, -302, -303, -321, -322, -323, -341, -342, and -343 airplanes.

(3) Airbus Model A340-211, -212, and -213 airplanes.

(4) Airbus Model A340-311, -312, and -313 airplanes.

(d) Subject

Air Transport Association (ATA) of America Code 25, Equipment/Furnishings.

(e) Reason

This AD was prompted by a report indicating that the aspirator on certain door 3, Type 1, escape slides might have been damaged because of incorrect packing during overhaul. We are issuing this AD to detect and correct damaged aspirators on door 3, Type 1, escape slides. Failure of an aspirator to inflate a door 3, Type 1, escape slide could prevent deployment of the escape slide during an emergency, possibly resulting in reduced evacuation capacity from the airplane and consequent injury to occupants.

(f) Compliance

Comply with this AD within the compliance times specified, unless already done.

(g) Inspection To Determine Part Number and Serial Number

Within 30 days after the effective date of this AD: Do an inspection to determine the part number and serial number of the door 3, Type 1, escape slides on the left and right sides of the airplane, in accordance with the instructions of Airbus Alert Operators Transmission (AOT) A25L009-16, dated July 7, 2016. A review of airplane maintenance records is acceptable in lieu of this inspection if the part number and serial number of the door 3, Type 1, escape slides can be conclusively determined from that review.

Note 1 to paragraph (g) of this AD: Airbus AOT A25L009-16, dated July 7, 2016, lists the corresponding airplane manufacturer serial numbers on which the affected slides (specified in table 1 to paragraphs (g), (i), and (j) of this AD) were re-installed after the last maintenance. That list of airplane manufacturer serial numbers is for information only because a potentially affected slide might have been removed from an airplane and later re-installed on another airplane.

Table 1 to Paragraphs (g), (i), and (j) of This AD—Affected Slides
Slide part No. | Slide serial No.
7A1509-027 | AD0918, AD0975, AD0979, AD1111, and AD1155.
7A1509-037 | AD0488, AD0759, AD0942, AD0960, AD1025, AD1033, AD1034, AD1080, and AD1184.
7A1509-123 | AD1231, AD1232, AD1450, AD1565, AD1730, AD1737, AD1805, AD1822, and AD1860.
7A1509-125 | AD1769, AD1780, AD1781, AD1816, AD1834, AD1841, AD1862, AD1869, AD2066, AD2103, AD2104, AD2178, AD2223, AD2263, AD2279, AD2301, AD2407, AD2409, and AD2497.

(h) Corrective Action

If, during the inspection required by paragraph (g) of this AD, any door 3, Type 1, escape slide having a part number and a serial number identified in table 1 to paragraphs (g), (i), and (j) of this AD is found: At the applicable compliance time specified in paragraph (h)(1) or paragraph (h)(2) of this AD, replace each affected door 3, Type 1, escape slide with a serviceable escape slide, in accordance with the instructions of Airbus Alert Operators Transmission A25L009-16, dated July 7, 2016.

(1) For affected slides on both the left and right sides of the airplane: Within 30 days after the effective date of this AD, after identification as required by paragraph (g) of this AD, replace at least one slide; and, within 10 months or 4,100 flight hours, whichever occurs first after the effective date of this AD, replace the second slide.

(2) For one affected slide on either the left or right side of the airplane: Within 10 months or 4,100 flight hours, whichever occurs first after the effective date of this AD, replace the slide.

(i) Serviceable Escape Slide

For the purpose of this AD, a serviceable escape slide is a brand new escape slide or one that has a part number and serial number identified in table 1 to paragraphs (g), (i) and (j) of this AD and was overhauled after May 1, 2016.

(j) Parts Installation Limitation

As of the effective date of this AD, an affected slide having a part number and serial number identified in table 1 to paragraphs (g), (i), and (j) of this AD may be installed on any airplane at the door 3, Type 1, position, provided it can be positively determined that the slide was overhauled after May 1, 2016.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(l) Related Information

Refer to Mandatory Continuing Airworthiness Information (MCAI) EASA Airworthiness Directive 2016-0137R1, dated July 21, 2016, for related information. You may examine the MCAI on the Internet at http://www.regulations.gov by searching for and locating Docket No. FAA-2016-9108.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A25L009-16, dated July 7, 2016.

(ii) Reserved.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 6, 2016.
Michael Kaszycki,
Acting Manager, Transport Airplane Directorate, Aircraft Certification Service.

[FR Doc. 2016-22178 Filed 9-15-16; 8:45 am]

BILLING CODE 4910-13-P